DEPARTMENT OF HEALTH AND HUMAN SERVICES

National Institutes of Health

Center for Scientific Review; Amended Notice of Meeting

Notice is hereby given of a change in the meeting of the Center for Scientific Review Special Emphasis Panel, October 16, 2003, 8 a.m. to October 17, 2003, 5 p.m., River Inn Hotel, 924 25th Street, NW., Washington, DC, 20037 which was published in the Federal Register on September 9, 2003, 68 FR 53183-53186.

The meeting will be held at the Holiday Inn Downtown, 1155 14th Street, NW., Washington, DC 20005. The meeting dates and time remain the same. The meeting is closed to the public.

Dated: September 24, 2003.
LaVerne Y. Stringfield,
Director, Office of Federal Advisory Committee Policy.

[FR Doc. 03-24820 Filed 9-30-03; 8:45 am]

BILLING CODE 4140-01-M